GENERAL SERVICES ADMINISTRATION

[OMB Control No. 3090-0274; Docket No. 2025-0001; Sequence No. 6]

Information Collection; Art-in-Architecture Program Center for Fine Arts; GSA Form 7437

AGENCY: Public Buildings Service, General Services Administration (GSA).

ACTION: Notice; request for comments.

SUMMARY: Under the provisions of the Paperwork Reduction Act, the Regulatory Secretariat Division will be submitting to the Office of Management and Budget (OMB) a request to review and approve a revision of an information collection requirement regarding the Art-in-Architecture (AIA) Program Center for Fine Arts, GSA Form 7437.

DATES: Submit comments on or before June 6, 2025.

ADDRESSES: Submit comments regarding this burden estimate or any other aspect of this collection of information, including suggestions for reducing this burden to http://www.regulations.gov.

Submit comments via the Federal eRulemaking portal by searching the OMB control number. Select the link “Submit a Comment” that corresponds with “Information Collection 3090-0274, Art-in-Architecture Program National Artist Registry, GSA Form 7437”. Follow the instructions provided at the “Submit a Comment” screen. Please include your name, company name (if any), and “Information Collection 3090-0274, Art-in-Architecture Program National Artist Registry, GSA Form 7437” on your attached document. If your comment cannot be submitted using https://www.regulations.gov, call or email the points of contact in the FOR FURTHER INFORMATION CONTACT section of this document for alternate instructions.

Instructions: Please submit comments only and cite Information Collection 3090-0274, Art-in-Architecture Program National Artist Registry, GSA Form 7437, in all correspondence related to this collection. Comments received generally will be posted without change to http://www.regulations.gov, including any personal and/or business confidential information provided. To confirm receipt of your comment(s), please check www.regulations.gov, approximately two-to-three days after submission to verify posting.

FOR FURTHER INFORMATION CONTACT: Ms. Jennifer Gibson, Office of Architecture and Engineering, Center for Fine Arts (PA0D), 1800 F Street NW, Washington, DC 20405, at telephone 202-253-3020 or via email at jennifer.gibson@gsa.gov.

SUPPLEMENTARY INFORMATION:

A. Purpose

The AIA Program actively seeks to commission works from American artists for public buildings. The GSA Form 7437, Art in Architecture Program National Artist Registry, will be used to collect information from artists across the country to participate and to be considered for commissions.

The AIA Program is the result of a policy decision made in January 1963 by GSA Administrator Bernard L. Boudin, who served on the Ad Hoc Committee on Federal Office Space in 1961-1962.

The program has been modified over the years, most recently in 2022, to align with Executive Order (E.O.) 14029 issued on May 14, 2021 “Revocation of Certain Presidential Actions and Technical Amendment,” and to support E.O. 13985 issued January 2021, titled “Advancing Racial Equity and Support for Underserved Communities Through the Federal Government. E.O. 14029 revoked E.O. 13934 issued July 3, 2020, Building and Rebuilding Monuments to American Heroes. E.O. 14189 of January 29, 2025 “Celebrating America's 250th Birthday, revoked E.O. 14129 and reinstates E.O. 13934. As mandated by E.O. 13934, the AIA program must prioritize the commissioning of artworks that portray historically significant Americans or events of American historical significance, or that illustrate the ideals upon which the Nation was founded. Priority is to be given to public-facing monuments to former Presidents of the United States, and to individuals and events relating to the discovery of America, the founding of the United States, and the abolition of slavery. Such works of art are to be designed to be appreciated by the general public and by those who use and interact with Federal buildings. When an artwork commissioned by GSA is meant to depict a historically significant American, the artwork is required to be a lifelike or realistic representation of that person, not an abstract or modernist representation.

With the implementation of the 2025 policy, the AIA program seeks to commission works from the American artists that “portray historically significant Americans or events of American historical significance or illustrate the ideals upon which our nation was founded.” In support of the AIA program's goal to commission the most talented contemporary American artists to create works for the nation's important new civic buildings, it is necessary to identify those artists. The National Artist Registry (Registry) offers the opportunity for artists across the country to participate and to be considered for commissions.

B. Annual Reporting Burden

Respondents: 300.

Responses per Respondent: 1.

Total Responses: 300.

Hours per Response: 0.25.

Total Burden Hours: 75.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the GSA Regulatory Secretariat Division by calling 202-501-4755 or emailing GSARegSec@gsa.gov. Please cite OMB Control No. 3090-0274, Art-in-Architecture Program Center for Fine Arts, GSA Form 7437.

Lois Mandell,
Director, Regulatory Secretariat Division, General Services Administration.

[FR Doc. 2025-05933 Filed 4-4-25; 8:45 am]

BILLING CODE 6820-34-P